ENVIRONMENTAL PROTECTION AGENCY

[FRL-9198-4; Docket ID No. EPA-HQ-ORD-2008-0663]

ICLUS v1.3 User's Manual: ArcGIS Tools and Datasets for Modeling U.S. Housing Density Growth

AGENCY: Environmental Protection Agency (EPA).

ACTION: Notice of availability.

SUMMARY: The U.S. Environmental Protection Agency (EPA) is announcing the availability of a final Geographic Information System (GIS) tool and final user's guide titled, “ICLUS v1.3 User's Manual: ArcGIS Tools and Datasets for Modeling U.S. Housing Density Growth” (EPA/600/R-09/143F). The tool and its documentation were prepared by the National Center for Environmental Assessment (NCEA) within EPA's Office of Research and Development. The GIS tool can be used to modify land use scenarios for the conterminous United States. ICLUS stands for Integrated Climate and Land Use Scenarios, a project which is described in the 2009 EPA Report, “Land-Use Scenarios: National-Scale Housing-Density Scenarios Consistent with Climate Change Storylines.” These scenarios are broadly consistent with global-scale, peer-reviewed storylines of population growth and economic development, which are used by climate change modelers to develop projections of future climate.

DATES: The GIS tool and documentation will be available on or about September 8, 2010.

ADDRESSES: “ICLUS v1.3 User's Manual: ArcGIS Tools and Datasets for Modeling U.S. Housing Density Growth” and the geoprocessing tools will be available to download via an ftp site on the NCEA's home page under the Recent Additions and Publications menus at http://www.epa.gov/ncea. A limited number of paper copies of the User's Manual are available from the Information Management Team, NCEA; telephone: 703-347-8561; facsimile: 703-347-8691. If you are requesting a paper copy, please provide your name, your mailing address, and the final document title, “ICLUS v1.3 User's Manual: ArcGIS Tools and Datasets for Modeling U.S. Housing Density Growth” (EPA/600/R-09/143F).

FOR FURTHER INFORMATION CONTACT: For technical information, contact Dr. Britta Bierwagen, NCEA; telephone: 703-347-8613; facsimile: 703-347-8692; or e-mail: bierwagen.britta@epa.gov.

SUPPLEMENTARY INFORMATION:

I. Information About the GIS Tool and Document

The GIS tool and its documentation, “ICLUS v1.3 User's Manual: ArcGIS Tools and Datasets for Modeling U.S. Housing Density Growth” enables users to run a spatially explicit allocation model with the population projections developed for the ICLUS project. Users can modify the spatial allocation of housing density across the landscape to customize scenarios of future development patterns. The data provided consist of five population scenarios by county for the conterminous U.S. and are available in 5-year increments from 2000 to 2100. The population projections for each U.S. county drive the production of new housing units, which are allocated in response to the spatial pattern of previous growth (e.g., 1990 to 2000), transportation infrastructure, and other basic assumptions. The housing allocation model recomputes housing density in 5-year time steps from the year 2000 to 2100.

The GIS tool allows users to:

• Access the county-level ICLUS population projections;

• Customize housing density patterns by altering household size and travel time assumptions;

• Classify housing density into generalized categories;

• Estimate future impervious surface based on a housing density; and

• Summarize levels of imperviousness by housing density classes.

In December 2009, the draft GIS tools and user's guide were released for independent external review and a Federal Register notice, published December 8, 2009, announced the start of a public review and comment period. These final GIS tools and user's guide address comments received from both the external peer review and the public.

Dated: September 1, 2010.
Rebecca Clark,
Acting Director, National Center for Environmental Assessment.

[FR Doc. 2010-22332 Filed 9-7-10; 8:45 am]

BILLING CODE 6560-50-P